DEPARTMENT OF EDUCATION

National Center for Education Statistics (NCES); Notice of Partially Closed Meeting

AGENCY: U.S. Department of Education.

ACTION: Notice of partially closed meeting.

SUMMARY: This notice sets forth the schedule and proposed agenda of a forthcoming meeting of the Advisory Council on Education Statistics (ACES). Notice of this meeting is required under section 10(a)(2) of the Federal Advisory Committee Act. This document is intended to notify the general public of their opportunity to attend.

DATES: October 26-27, 2000.

Times

October 26, 2000

Full Council

9 a.m.-10:45 a.m. (open)

10:45-11:45 (closed)

11:45-2:15 p.m. (open)

Statistics Committee and Policy Committee

2:15 p.m.-5 p.m. (open).

October 27, 2000

Statistics Committee and Policy Committee

9 a.m.-12 noon (open)

Full Council

12 noon-2:30 p.m. (open).

Location: Department of Education, 1990 K Street NW, Washington, DC 20006.

FOR FURTHER INFORMATION CONTACT: Audrey Pendleton, National Center for Education Statistics, 1990 K Street NW, Room 9115, Washington, DC 20006.

SUPPLEMENTARY INFORMATION: The Advisory Council on Education Statistics (ACES) is established under section 46(c)(1) of the Education Amendments of 1974, Public Law 93-380. The Council is established to review general policies for the operation of the National Center for Education Statistics (NCES) in the Office of Educational Research and Improvement (OERI) and is responsible for advising on standards to ensure that statistics and analyses disseminated by NCES are of high quality and are not to subject to political influence. In addition, ACES is required to advise the Commissioner of NCES and the National Assessment Governing Board on technical and statistical matters related to the National Assessment of Educational Progress (NAEP).

Meetings of the Council are open to the public. Individuals who will need accommodations for a disability in order to attend the meeting (i.e. interpreting services, assistive listening devices, and materials in alternative format) should notify Audrey Pendleton at 202-502-7300 by no later than October 13, 2000. We will attempt to meet requests after this date, but cannot guarantee availability of the requested accommodation. The meeting site is accessible to individuals with disabilities.

The proposed agenda includes the following:

• New member swearing-in

• A status report from the NCES Commissioner on major Center initiatives; including the reauthorization of NCES and ACES;

• The closed session on the agenda involves discussion about specific cost estimates for future procurements/contracts. The public disclosure of this information would be likely to significantly frustrate implementation of proposed action if conducted in open session. Such matters are protected by exemption (9)(B) of section 552b(c) of Title 5 U.S.C.

• NCES' International Program;

• Enhancing school and state participation in NAEP;

Individual meetings of two ACES Committees will focus on specific topics:

• The agenda for the Statistics Committee includes a discussion of revision of NCES statistical standards, technical issues on adult literacy surveys, and Research and Development studies.

• The agenda for the Policy Committee includes discussion of adjustments of NAEP Data, Coordination of NAEP, TIMSS-R, and PISA reports, and revision of the Integrated Postsecondary Education Data System sample frame.

Records are kept of all Council proceedings and are available for public inspection at the Office of the Executive Director, Advisory Council on Education Statistics, National Center for Education Statistics, 1990 K Street NW, Room 9100, Washington, DC 20006.

C. Kent McGuire,
Assistant Secretary for Educational Research and Improvement.

[FR Doc. 00-26344 Filed 10-12-00; 8:45 am]

BILLING CODE 4000-01-M